DEPARTMENT OF DEFENSE

Department of the Army

Intention To Grant Exclusive Patent License on a Federally Owned Invention

AGENCY: Department of the Army, DOD.

ACTION: Notice.

SUMMARY: In accordance with 37 CFR 404.7, announcement is made of the intention to grant an exclusive patent license for U.S. Patent Number 5,665,970, entitled, “Directional Radiation Detector and Imager,” that was issued to Kronenberg et al. on September 9, 1997. The United States Government, as represented by the Secretary of the Army, has rights in this invention. Accordingly, under the authority of Section 11(a)(2) of the Federal Technology Transfer Act of 1986 (Pub. L. 99-502) and sections 207 and 209 of Title 35, United States Code, the Department of the Army, as represented by the U.S. Army Communications-Electronics Command, Fort Monmouth, NJ, intends to grant an exclusive patent license for U.S. Patent Number 5,665,970 to Canberra Industries Inc.

ADDRESSES: Commander, U.S. Army, Communications-Electronics Command, ATTN: AMSEL-LG-L (Mr. George B. Tereschuk), Fort Monmouth, New Jersey 07703-5010.

FOR FURTHER INFORMATION CONTACT: Mr. George B. Tereschuk, Patent Attorney, U.S. Army (732) 532-9795.

SUPPLEMENTARY INFORMATION: U.S. Patent Number 5,665,970, filed on July 3, 1996, entitled, “Directional Radiation Detector and Imager,” was issued to Kronenberg et al. on September 9, 1997. This U.S. Patent was assigned to the United States of America, as represented by the Secretary of the Army, and provides a new type of radiation sensor and radiation imager that is formed by sandwiching two materials having different atomic numbers (Z) around a radiation detector, such as scintillator or Geiger-Mueller type radiation counters, or solid state radiation detectors, such as those made of silicon. Pursuant to 35 U.S.C. 209(e) any interested party may file written comments or objections to this intended exclusive patent license at the above address. Written comments or objections must be filed within fifteen (15) days from the date of the publication of this notice in the Federal Register.

George B. Tereschuk,
Patent Attorney, Intellectual Property Law Division.

[FR Doc. 02-32817 Filed 12-27-02; 8:45 am]

BILLING CODE 3710-08-M